FEDERAL RESERVE SYSTEM

Formations of, Acquisitions by, and Mergers of Bank Holding Companies; Correction

This notice corrects a notice (FR Doc. E8-12885 published on page 32709 of the issue for Tuesday, June 10, 2008.

Under the Federal Reserve Bank of Kansas City heading, the entry for Pinnacle Bancorp, Inc., Central City, Nebraska, is revised to read as follows:

A. Federal Reserve Bank of Kansas City (Todd Offenbacker, Assistant Vice President) 1 Memorial Drive, Kansas City, Missouri 64198-0001:

1. Pinnacle Bancorp, Inc., Central City, Nebraska, to acquire 100 percent of the voting shares of First Azle Bancshares, Inc., Azle, Texas, and thereby indirectly acquire voting shares of Wood Financial Group, Inc., Dover, Delaware, and First Bank, Azle, Texas.

Comments on this application must be received by July 3, 2008.

Board of Governors of the Federal Reserve System, June 10, 2008.
Robert deV. Frierson,
Deputy Secretary of the Board.

[FR Doc. E8-13334 Filed 6-12-08 8:45 am]

BILLING CODE 6210-01-S